DEPARTMENT OF ENERGY

Federal Energy Regulatory Commission

[Docket No. RP02-198-000]

Florida Gas Transmission Company; Notice of Proposed Changes in FERC Gas Tariff

March 19, 2002.

Take notice that on March 13, 2002, Florida Gas Transmission Company (FGT) tendered for filing to become part of its FERC Gas Tariff, Third Revised Volume No. 1, the following tariff sheets, with an effective date of April 12, 2002:

Fifth Revised Sheet No. 650

Fourth Revised Sheet No. 651

Fourth Revised Sheet No. 652

Fourth Revised Sheet No. 653

Fifth Revised Sheet No. 654

FGT states that on September 1, 1994, it filed a Stipulation and Agreement of Settlement (Settlement) and pro forma tariff sheets setting forth procedures for the interruption of interruptible transportation and the curtailment of firm service during periods of diminished capacity on FGT's system. The Settlement was supported by most of the customers on FGT's system. On January 12, 1995 the Commission issued an order which accepted and clarified the Settlement. (70 FERC ¶ 61,017.) The Commission issued an order on rehearing on June 2, 1995. (71 FERC ¶ 61,274.)

Also, FGT states that the Settlement, as approved and modified by the Commission, establishes procedures in subsections (g) and (h) of section 17.A.4. of the General Terms and Conditions (GT&C) of FGT's Tariff to review the Exempt Use classifications under FGT's curtailment plan. These procedures require that: the DVC [Data Verification Committee] shall meet one year after the date [November 1, 1995] of the implementation of these curtailment provisions to review the Exempt Use classifications. Thereafter, unless otherwise agreed to by the DVC, the DVC shall meet the earlier of: (i) each three years after the plan's implementation date or anniversary thereof or (ii) within sixty (60) days following the second of two firm curtailment events on FGT's system occurring within a 12-month period.

FGT states that pursuant to the terms of FGT's Tariff, the DVC met on October 4, 2001, to review, classify and establish exempt uses as shown on the referenced tariff sheets.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7082 Filed 3-22-02; 8:45 am]

BILLING CODE 6717-01-P